DEPARTMENT OF ENERGY

Federal Energy Regulatory Commission

[Project No. 13526-001]

Bowersock Mills and Power Company; Notice of Intent To File License Application, Filing of Pre-Application Document, and Approval of Use of the Traditional Licensing Process

November 6, 2009.

a. Type of Filing: Notice of Intent to File License Application and Request to Use the Traditional Licensing Process.

b. Project Nos.: 13526-001.

c. Date Filed: October 6, 2009.

d. Submitted by: Bowersock Mills and Power Company.

e. Name of Projects: Bowersock Mills and Power Company Kansas River Project.

f. Location: The project would be located on the Kansas River near the town of Lawrence, Douglas County, Kansas. The project would not occupy federal lands.

g. Filed Pursuant to: 18 CFR 5.3 of the Commission's regulations.

h. Applicant Contact: Sara Hill-Nelson, The Bowersock Mills and Power Company, P.O. Box 66 Massachusetts Street, Lawrence, Kansas 66044, (785) 766-0884.

i. FERC Contact: Monte TerHaar, (202) 502-6035 or monte.terhaar@ferc.gov.

j. The Bowersock Mills and Power Company filed its request to use the Traditional Licensing Process on September 22, 2009. The Bowersock Mills and Power Company published public notice of its request on September 24, 2009. In a letter dated November 5, 2009, the Director of the Office of Energy Projects approved The Bowersock Mills and Power Company's request to use the Traditional Licensing Process.

k. With this notice, we are initiating informal consultation with: (a) The U.S. Fish and Wildlife Service under section 7 of the Endangered Species Act and the joint agency regulations thereunder at 50 CFR part 402; and (b) the Kansas State Historic Preservation Officer, as required by section 106, National Historical Preservation Act, and the implementing regulations of the Advisory Council on Historic Preservation at 36 CFR 800.2.

l. The Bowersock Mills and Power Company filed a Pre-Application Document (PAD) on October 23, 2009, including a proposed process plan and schedule, with the Commission pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E9-27292 Filed 11-12-09; 8:45 am]

BILLING CODE 6717-01-P